DEPARTMENT OF LABOR

Employment and Training Administration

Comment Request for Information Collection for the OMB 1205-0268, ETA 9016 Alien Claims Activity Report, Extension Without Revision

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps to ensure that requested data can be provided in the desired format, reporting burden (time and financial resources) is minimized, collection instruments are clearly understood, and the impact of collection requirements on respondents can be properly assessed.

Currently, ETA is soliciting comments concerning the proposed extension for the collection of data on the ETA 9016, Alien Claims Activity Report, which expires September 30, 2014. The data collection will provide for a comprehensive evaluation of the Unemployment Insurance (UI) Alien Claims Activities. The data are collected quarterly, and an analysis of the data received is formulated into a report summarizing the Alien Claims Activity by the 53 State Workforce Agencies (SWAs).

DATES: Written comments must be submitted to the office listed in the addresses section below on or before May 19, 2014.

ADDRESSES: Send comments to Ericka Parker, Office of Unemployment Insurance, Employment and Training Administration, U.S. Department of Labor, 200 Constitution Avenue NW., Washington, DC 20210. Telephone number 202-693-3208 (this is not a toll-free number). Individuals with hearing or speech impairments may access the telephone number above via TTY by calling the toll-free Federal Information Relay Service at 1-877-889-5627 (TTY/TDD). Email: [parker.ericka@dol.gov]. A copy of the proposed information collection request (ICR) can be obtained by contacting the person listed above.

SUPPLEMENTARY INFORMATION:

I. Background

The ETA 9016 report is used by the Department to assess whether (and the extent to which) the requirements of the U.S. Citizenship and Immigration Services (USCIS), Systematic Alien Verification for Entitlement (SAVE) system are cost-effective and otherwise appropriate for the UI program. In addition, data from the Alien Claims Activity report is being used to assist the Secretary of Labor in determining whether a SWA's administrative costs associated with the verification program are reasonable and reimbursable. There is no other report or system available for collecting this required information. The report allows the Department of Labor to determine the number of aliens filing for UI, the number of benefit issues detected, the denials of benefits to aliens, the extent to which State Agencies use the system, and the overall effectiveness and cost efficiency of the verification system. If SWAs are not required to submit the information on the Alien Claims Activity Report, the Department would not be able to fulfill its responsibilities to assess the SAVE system.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without revision.

Title: ETA 9016, Alien Claims Activity Report.

OMB Number: 1205-0268.

Affected Public: State Workforce Agencies.

Estimated Total Annual Respondents: 53.

Annual Frequency: Quarterly.

Estimated Total Annual Responses: 212 responses.

Average Time per Response: 1 hour.

Estimated Total Annual Burden Hours: 212 hours.

Total Estimated Annual Other Cost Burden: $0.

Comments submitted in response to this comment request will be summarized and/or included in the request for OMB approval of the ICR; they will also become a matter of public record.

Dated: March 12, 2014.
Eric M. Seleznow,
Acting Assistant Secretary for Employment and Training, Labor.

[FR Doc. 2014-06128 Filed 3-19-14; 8:45 am]

BILLING CODE 4510-FW-P